DEPARTMENT OF COMMERCE

International Trade Administration

[C-357-813]

Notice of Countervailing Duty Order: Honey From Argentina

AGENCY: Import Administration, International Trade Administration, Department of Commerce.

EFFECTIVE DATE: December 10, 2001.

FOR FURTHER INFORMATION CONTACT: Thomas Gilgunn at (202) 482-4236, or Holly Hawkins at (202) 482-0414, Office of AD/CVD Enforcement VII, Group III, Import Administration, U.S. Department of Commerce, Room 7866, 14th Street and Constitution Avenue, NW., Washington, DC 20230.

SUPPLEMENTARY INFORMATION:

The Applicable Statute and Regulations

Unless otherwise indicated, all citations to the statute are references to the Tariff Act of 1930, as amended (the Act). In addition, unless otherwise indicated, all citations to the Department of Commerce (the Department) regulations refer to the regulations codified at 19 CFR part 351 (2000).

Scope of Order

The merchandise subject to this investigation is natural honey, artificial honey containing more than 50 percent natural honeys by weight, preparations of natural honey containing more than 50 percent natural honeys by weight, and flavored honey. The subject merchandise includes all grades and colors of honey whether in liquid, creamed, combs, cut comb, or chunk form, and whether packaged for retail or in bulk form.

The merchandise subject to this investigation is currently classifiable under subheadings 0409.00.00, 1702.90, and 2106.90.99 of the Harmonized Tariff Schedule of the United States (HTSUS). Although the HTSUS subheadings are provided for convenience and U.S. Customs Service (Customs) purposes, the Department's written description of the merchandise under investigation is dispositive.

Countervailing Duty Order

In accordance with section 705(d) of the Act, on October 4, 2001, the Department published in the Federal Register its final affirmative determination in the countervailing duty investigation of Honey from Argentina (66 FR 50613). On November 19, 2001, the International Trade Commission (ITC) notified the Department of its final determination, pursuant to section 705(b)(1)(A)(i) of the Act, that an industry in the United States is materially injured by reason of imports of honey from Argentina.

Therefore, countervailing duties will be assessed on all unliquidated entries of honey from Argentina entered, or withdrawn from warehouse, for consumption on or after March 13, 2001, the date on which the Department published its preliminary countervailing duty determination in the Federal Register, and before July 11, 2001, the date that the Department instructed the U.S. Customs Service to terminate the suspension of liquidation in accordance with section 703(d) of the Act, and on all entries and withdrawals on or after the date of publication of this countervailing duty order in the Federal Register. Section 703(d) of the Act states that the suspension of liquidation pursuant to a preliminary determination may not remain in effect for longer than four months. Entries of honey made on or after July 11, 2001, and prior to the date of publication of this order in the Federal Register are not liable for the assessment of countervailing duties due to the Department's termination, effective July 11, 2001, of suspension of liquidation.

In accordance with section 706 of the Act, the Department will direct U.S. Customs officers to reinstate the suspension of liquidation effective the date of publication of this notice in the Federal Register and to assess, upon further advice by the Department pursuant to section 706(a)(1) of the Act, countervailing duties for each entry of the subject merchandise in an amount based on the countervailable subsidy rate for the subject merchandise.

On or after the date of publication of this notice in the Federal Register, U.S. Customs officers must require, at the same time as importers would normally deposit estimated duties on this merchandise, a cash deposit equal to the countervailable subsidy rate noted below. In accordance with section 777A(e)(2)(B) of the Act, we have calculated an aggregate or industry-wide rate for all of the producers/exporters of honey under investigation. We have determined that the total estimated countervailable subsidy rate is 4.53 percent ad valorem. However, due to a program-wide change, we have established a cash deposit rate of 5.85 percent ad valorem in accordance with section 351.526(a) of the Department's regulations.

This notice constitutes the countervailing duty order with respect to honey from Argentina pursuant to section 706(a) of the Act. Interested parties may contact the Central Records Unit, for an updated list of countervailing duty orders currently in effect.

This countervailing duty order is published in accordance with section 706(a) of the Act and 19 CFR 351.211.

Dated: November 28, 2001.
Richard W. Moreland,
Acting Assistant Secretary, for Import Administration.

[FR Doc. 01-30470 Filed 12-7-01; 8:45 am]

BILLING CODE 3510-DS-P